DEPARTMENT OF THE INTERIOR

Bureau of Land Management

[LLCON06000-L16100000-DR0000-17X]

Notice of Resource Advisory Council Meeting for the Dominguez-Escalante National Conservation Area Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Dominguez-Escalante National Conservation Area (NCA) Advisory Council (Council) will meet as indicated below.

DATES: The meeting will be held February 22, 2017. Any adjustments to this meeting will be advertised on the Dominguez-Escalante NCA RMP Web site: https://www.blm.gov/get-involved/resource-advisory-council/near-you/colorado/dominguez-escalante-nca-ac.

ADDRESSES: The meeting will be held at the Mesa County Central Services Building, 200 S. Spruce St., Room 40, Grand Junction, CO 81501.

FOR FURTHER INFORMATION CONTACT: Collin Ewing, Advisory Council Designated Federal Official, 2815 H Road, Grand Junction, CO 81506. Phone: (970) 244-3049. Email: cewing@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 10-member Council advises the Secretary of the Interior, through the BLM, on a variety of planning and management issues associated with the Resource Management Plan (RMP) process for the Dominguez-Escalante NCA and Dominguez Canyon Wilderness. Topics of discussion during the meeting may include priorities for the RMP and travel plan.

These meetings are open to the public. The public may present written comments to the Council. Time will be allocated at the middle and end of each meeting to hear public comments. Depending on the number of persons wishing to comment and time available, the time for individual, oral comments may be limited at the discretion of the chair.

Ruth Welch,
BLM Colorado State Director.

[FR Doc. 2016-31374 Filed 12-27-16; 8:45 am]

BILLING CODE 4310-JB-P